DEPARTMENT OF COMMERCE

National Oceanic and Atmospheric Administration

RIN 0648-XC602

Mid-Atlantic Fishery Management Council (MAFMC); Public Meeting

AGENCY: National Marine Fisheries Service (NMFS), National Oceanic and Atmospheric Administration (NOAA), Commerce.

ACTION: Notice of a public meeting.

SUMMARY: The Mid-Atlantic Fishery Management Council (Council) announces its intent to hold a workshop in conjunction with a joint meeting of the Mackerel, Squid, Butterfish and Ecosystems and Ocean Planning Advisory Panels. The purpose of the workshop is to facilitate development of spatial alternatives for deep sea coral protection areas for inclusion in Amendment 16 to the Mackerel, Squid, and Butterfish Fishery Management Plan.

DATES: The workshop will be held on Thursday, April 18, 2013, from 9 a.m. to 5 p.m.

ADDRESSES: The workshop will be held at the Hilton Garden Inn Baltimore/Arundel Mills, 7491-A New Ridge Road, Hanover, MD, 21076; telephone: (410) 878-7200.

Council address: Mid-Atlantic Fishery Management Council, 800 N. State Street, Suite 201, Dover, DE 19901; telephone: (302) 674-2331.

FOR FURTHER INFORMATION CONTACT: Christopher M. Moore Ph.D., Executive Director, Mid-Atlantic Fishery Management Council, 800 N. State Street, Suite 201, Dover, DE 19901; telephone: (302) 526-5255.

SUPPLEMENTARY INFORMATION: This workshop will address the need for a refined set of deep sea coral protection area options for inclusion in Amendment 16 to the Mackerel, Squid, and Butterfish Fishery Management Plan (Protections for Deep Sea Corals). The Council will solicit the input of the Mackerel, Squid, and Butterfish Advisory Panel, the Ecosystems and Ocean Planning Advisory Panel, additional deep sea coral experts, and additional fishing industry participants with an interest in or knowledge of fishing occurring in potential protection areas. Goals of the workshop include an enhanced understanding of fishing effort in relation to deep sea coral distribution in the Mid-Atlantic, and production of a jointly developed set of alternatives for deep sea coral protection zones to be considered at future public hearings and Council meetings.

Although non-emergency issues not contained in this agenda may come before this group for discussion, those issues may not be the subject of formal action during this meeting. Action will be restricted to those issues specifically listed in this notice and any issues arising after publication of this notice that require emergency action under section 305(c) of the Magnuson-Stevens Fishery Conservation and Management Act, provided the public has been notified of the Council's intent to take final action to address the emergency.

Special Accommodations

The meeting is physically accessible to people with disabilities. Requests for sign language interpretation or other auxiliary aids should be directed to M. Jan Saunders at the Mid-Atlantic Council Office, (302) 526-5251, at least 5 days prior to the meeting date.

Dated: March 26, 2013.
Tracey L. Thompson,
Acting Deputy Director, Office of Sustainable Fisheries, National Marine Fisheries Service.

[FR Doc. 2013-07362 Filed 3-28-13; 8:45 am]

BILLING CODE 3510-22-P